DEPARTMENT OF ENERGY

International Energy Agency Meetings

AGENCY: Department of Energy.

ACTION: Notice of Meetings.

SUMMARY: The Industry Advisory Board (IAB) to the International Energy Agency (IEA) will meet on November 16-17, 2011, at the headquarters of the IEA in Paris, France, in connection with a meeting of the IEA's Standing Group on Emergency Questions (SEQ) on November 16 and 17; and on November 17 in connection with a joint meeting of the SEQ and the IEA's Standing Group on the Oil Market on November 17.

DATES: November 16-17, 2011.

ADDRESSES: 9, rue de la Fédération, Paris, France.

FOR FURTHER INFORMATION CONTACT: Diana D. Clark, Assistant General for International and National Security Programs, Department of Energy, 1000 Independence Avenue SW., Washington, DC 20585, (202) 586-3417.

SUPPLEMENTARY INFORMATION: In accordance with section 252(c)(1)(A)(i) of the Energy Policy and Conservation Act (42 U.S.C. 6272(c)(1)(A)(i)) (EPCA), the following notice of meeting is provided:

Meetings of the Industry Advisory Board (IAB) to the International Energy Agency (IEA) will be held at the headquarters of the IEA, 9, rue de la Fédération, Paris, France, on November 16, 2011, beginning at 9:30 a.m., and continuing on November 17 at 9:30 a.m.; and on November 17 commencing at 11:15 a.m. The purpose of this notice is to permit attendance by representatives of U.S. company members of the IAB at a meeting of the IEA's Standing Group on Emergency Questions (SEQ), which is scheduled to be held at the headquarters of the IEA on November 16 commencing at 9:30 a.m.; and a joint meeting of the SEQ and the IEA's Standing Group on the Oil Market (SOM) on November 17 commencing at 11:15 a.m. The IAB will also hold a preparatory meeting among company representatives on November 16 at the same location at 8:30 a.m. The agenda for this preparatory meeting is to review the agendas for the SEQ meeting and the joint SEQ/SOM meeting on November 17.

The agenda of the SEQ meeting on November 16-17 is under the control of the SEQ. It is expected that the SEQ will adopt the following agenda:

1. Adoption of the Agenda

2. Approval of the Summary Record of the 133rd Meeting

3. Status of Compliance with IEP Stockholding Commitments

4. Emergency Response Review Program

—Schedule of Emergency Response Reviews

—Emergency Response Review of Hungary

—Emergency Response Review of Korea

—Questionnaire Response of France

—Questionnaire Response of Switzerland

—Questionnaire Response of The Netherlands

5. Emergency Response Exercises

—Preparations for ERE6

6. Emergency Response Measures

—Costs and Benefits of Stockholding

7. Policy and Other Developments in Member Countries

—Mid-Term ERR of Luxembourg

—Mid-Term ERR of Italy

—Oral Reports by Administrations

8. Report from the Industry Advisory Board

9. Review of Libya Collective Action

—Draft Evaluation

—Emergency Questionnaire QuE

10. Report on the 2011 Ministerial

—Future Work on Electricity Security

—Presentation on Energy Security Model (MOSES) and Future Work on the Model

11. Activities with International Organizations and Non-Member Countries

—ASEAN (APSA)

—China

—Indonesia

—Emergency Response Assessment of Chile

—Report on Recent Discussions with India and Thailand

12. Documents for Information

—Emergency Reserve Situation of IEA Member Countries on July 1, 2011

—Base Period Final Consumption: 3Q 2010-2Q 2011

—Updated Emergency Contacts List

13. Other Business

—Tentative Schedule of Next Meetings:

—March 28-30, 2012

—June 26-28, 2012

—November 27-29, 2012 (ERE6)

The agenda of the joint SEQ/SOM meeting on November 17 is under the control of the SEQ and the SOM. It is expected that the SEQ and SOM will adopt the following agenda:

1. Introductory Remarks by the Director of Energy Markets and Security

2. Adoption of the Agenda

3. Approval of the Summary Record of the June 2011 Joint Meeting

4. Oil Market Update

5. Report on Joint Activities

—G20 Work on Oil, Coal, and Gas Market Volatility

—G20 Work on Price Reporting Agencies (PRAs)

—Upcoming IEA/IEF/OPEC Workshops:

—Physical and Financial Market Interactions

(Vienna, November 2011)

—Oil and Energy Market Outlooks (Riyadh,

January 2012)

6. Gas Market Update

7. Workshop: The Market Implications of OECD Refinery Rationalization

8. Other Business

—Tentative Schedule of Upcoming Meetings:

—March 27-29, 2012

—June 26-28, 2012

—November 27-29, 2012

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accounting Office, Committees of Congress, the IEA, and the European Commission; and invitees of the IAB, the SEQ, the SOM, or the IEA.

Issued in Washington, DC, November 2, 2011.
Diana D. Clark,
Assistant General Counsel for International and National Security Programs.

[FR Doc. 2011-29024 Filed 11-8-11; 8:45 am]

BILLING CODE 6450-01-P